DEPARTMENT OF STATE

[Public Notice 4511]

Amendment of Certain Designations Pursuant to Section 1(a)(ii)(A) of Executive Order 12947

Acting under the authority of section 1(a)(ii)(A) of Executive Order 12947 of January 23, 1995, as amended by Executive Order 13099 of August 20, 1998, and in consultation with the Secretary of the Treasury and the Attorney General, I hereby determine that the organizations listed below use or have used as aliases the additional names indicated below. I hereby amend the designations of these organizations to add the following names as aliases:

Kahane Chai (designated on January 23, 1995)

Also known as Kach

Also known as Kahane Lives

Also known as the Kfar Tapuah Fund

Also known as The Judean Voice

Also known as The Judean Legion

Also known as The Way of the Torah

Also known as The Yeshiva of the Jewish Idea

Also known as the Repression of Traitors

Also known as Dikuy Bogdim

Also known as DOV

Also known as the State of Judea

Also known as the Committee for the Safety of the Roads

Also known as the Sword of David

Also known as Judea Police

Also known as Forefront of the Idea

Also known as The Qomemiyut Movement

Also known as KOACH

Also known as New Kach Movement

Also known as newkach.org

Also known as Kahane

Also known as Yeshivat HaRav Meir

Also known as the International Kahane Movement

Also known as Kahane.org

Also known as Kahane.net

Also known as Kahanetzadak.com

Also known as Kahane Tzadak

Also known as the Hatikva Jewish Identity Center

Also known as the Rabbi Meir David Kahane Memorial Fund

Also known as Friends of the Jewish Idea Yeshiva

Also known as Judean Congress

Also known as Jewish Legion

Also known as The Voice of Judea

Also known as No'ar Meir

Also known as Meir's Youth

Also known as American Friends of Yeshivat Rav Meir

Also known as American Friends of the United Yeshiva Movement

Also known as The Committee Against Racism and Discrimination (CARD)

Popular Front for the Liberation of Palestine (designated on January 23, 1995)

Also known as the Red Eagles

Also known as the Red Eagle Group

Also known as the Red Eagle Gang

Also known as the Halhul Gang

Also known as the Halhul Squad

Also known as Palestinian Popular Resistance Forces

Also known as PPRF

Also known as Martyr Abu-Ali Mustafa Battalion

Islamic Army (designated on August 20, 1998)

Also known as al Qaeda

Also known as “the Base”

Also known as the Usama Bin Laden Network

Also known as the Usama Bin Laden Organization

Also known as Egyptian Islamic Jihad

Also known as al-Jihad

Also known as the Jihad Group

Also known as Egyptian al-Jihad

Also known as New Jihad

I determine that no prior notice need be provided to any person subject to this determination who might have a constitutional presence in the United States, because to do so would render ineffectual the measures authorized in the Order.

This notice shall be published in the Federal Register.

Dated: October 7, 2003.
Colin L. Powell,
Secretary of State, Department of State.

[FR Doc. 03-25888 Filed 10-9-03; 8:45 am]

BILLING CODE 4710-10-P